DEPARTMENT OF THE INTERIOR

Bureau of Land Management

43 CFR Part 1820

[MT 980-0777-XG]

RIN 1004-AB85

Application Procedures, Execution and Filing of Forms: Correction of State Office Address for Filings and Recordings, Proper Offices for Recording of Mining Claims

AGENCY: Bureau of Land Management, Interior.

ACTION: Final rule.

SUMMARY: This final rule amends the regulations pertaining to execution and filing of forms in order to reflect that the Montana State Office of the Bureau of Land Management (BLM) is removing its post office box from the list of State Office addresses and Areas of Jurisdiction included in the Code of Federal Regulations. The public will continue to direct personal, messenger, express mail, direct filing, and other delivery by the United States Postal Services to the same street address as before. This rule will have no impact or cost to the public.

DATES: Effective March 3, 2006.

FOR FURTHER INFORMATION CONTACT: Diane Williams, Regulatory Affairs Group, (202) 452-5030. Persons who use a telecommunications device for the deaf (TDD) may call the Federal Information Relay Service (FIRS) at 1-800-877-8339, 24 hours a day, 7 days a week.

ADDRESSES: You may send inquiries or suggestions to Director (630), Bureau of Land Management, Eastern States Office, 7450 Boston Boulevard, Springfield, Virginia 22153; Attention: RIN 1004-AB85.

SUPPLEMENTARY INFORMATION:

I. Background

II. Procedural Matters

I. Background

This final rule reflects the administrative action of removing the Montana State Office post office box from the list of State Office addresses and Areas of Jurisdiction included in the Code of Federal Regulations. The street address for the personal filing of documents relating to public lands in Montana, North Dakota and South Dakota remains the same, and this rule makes no other changes in filing requirements. The BLM has determined that this rule has no substantive impact on the public, nor does it impose any costs; it merely updates an address included in the Code of Federal Regulations for the convenience of the public. Therefore, the Department of the Interior, for good cause, finds under 5 U.S.C. 553(b)(B) and 553(d)(3) that notice and public comment procedures are unnecessary and that the rule may take effect upon publication.

II. Procedural Matters

Regulatory Planning and Review (Executive Order 12866)

This final rule is an administrative action to remove a post office box from the address of one of the BLM State Offices. This rule is not subject to review by the Office of Management and Budget under Executive Order 12866. This final regulation will not have an effect of $100 million or more on the economy. It will not adversely affect in a material way the economy, productivity, competition, jobs, the environment, public health or safety, or State, local, or tribal governments or communities.

This final regulation will not create a serious inconsistency or otherwise interfere with an action taken or planned by another agency. The final regulation does not alter the budgetary effects of entitlements, grants, user fees, or loan programs or the right or obligations of their recipients, nor does it raise novel legal or policy issues.

National Environmental Policy Act

This final rule is a purely administrative regulatory action having no effect upon the public or the environment. It has been determined that the rule is categorically excluded from environmental review under Section 102(2)(C) of the National Environmental Policy Act of 1969 (42 U.S.C. 4332(2)(C)), pursuant to 516 Departmental Manual, Chapter 2, Appendix 1.

Regulatory Flexibility Act

Congress enacted the Regulatory Flexibility Act of 1980 (5 U.S.C. 601 et seq.) to ensure that Government regulations do not unnecessarily or disproportionately burden small entities. Since this final rule is a purely administrative regulatory action having no effects upon the public or the environment, it has been determined that the rule will not have a significant economic effect on a substantial number of small entities.

Small Business Regulatory Enforcement Fairness Act

This final rule is a purely administrative regulatory action having no effects upon the public or the economy. This is not a major rule under Small Business Regulatory Enforcement Fairness Act (5 U.S.C. 804(2)). It will not have an annual effect on the economy of $100 million or more. The rule will not cause a major increase in costs or prices for consumers, individual industries, Federal, State, or local government agencies, or geographic regions. It will not have significant adverse effects on competition, employment, investment, productivity, innovation, or the ability of United States-based enterprises to compete with foreign-based enterprises.

Unfunded Mandates Reform Act of 1995

The BLM has determined that the final rule is not significant under the Unfunded Mandates Reform Act of 1995 because it will not result in the expenditure by State, local, and tribal governments, in the aggregate, or by the private sector, of $100 million or more in any one year.

Further, the final rule will not significantly or uniquely affect small governments. It does not require action by any non-Federal government entity. Therefore, the information required by the Unfunded Mandates Reform Act (2 U.S.C. 1531 et seq.), is not required.

Executive Order 12630, Government Action and Interference With Constitutionally Protected Property Rights (Takings)

As required by Executive Order 12630, the Department of the Interior has determined that the rule would not cause a taking of private property. No private property rights would be affected by a rule that merely removes a post office box from an address for the Montana State Office. The Department therefore certifies that this final rule is not governmental action capable of interference with constitutionally protected property rights.

Executive Order 13132, Federalism

In accordance with Executive Order 13132, the BLM finds that the rule does not have sufficient Federalism implications to warrant the preparation of a Federalism Assessment. The final rule does not have substantial direct effects on the States, on the relationship between the national government and the States, or the distribution of power and responsibilities among the various levels of government. This final rule does not preempt State law.

Executive Order 12988, Civil Justice Reform

This final rule is a purely administrative regulatory action having no effects upon the public, does not unduly burden the judicial system, and meets the requirements of Sections 3(a) and 3(b)(2) of the Executive Order.

Executive Order 13175, Consultation and Coordination With Indian Tribal Governments

In accordance with the Executive Order 13175, the BLM finds that the rule does not include policies that have tribal implications. This final rule is a purely an administrative action having no effects upon the public or the environment, imposing no costs, and merely removing the post office box from the BLM Montana State Office address included in the Code of Federal Regulations.

Executive Order 13211, Actions Concerning Regulations That Significantly Affect Energy Supply, Distribution, or Use

In accordance with the Executive Order 13211, the BLM has determined that the final rule is not a significant regulatory action under Executive Order 12866 and is not likely to have a significant adverse effect on the energy supply, distribution or use, including a shortfall in supply or price increase. This final rule is a purely administrative action and has no implications under Executive Order 13211.

Executive Order 13352, Facilitation of Cooperative Conservation

In accordance with Executive Order 13352, the BLM has determined that this final rule is administrative in nature, merely removing the post office box from the BLM Montana State Office address included in the Code of Federal Regulations. This final rule does not impede facilitating cooperative conservation; takes appropriate account of and considers the interests of persons with ownership or other legally recognized interests in land or other natural resources; has no effect on local participation in the Federal decision-making process; and provides that agency programs, projects, and activities are consistent with protecting public health and safety.

Paperwork Reduction Act

The Paperwork Reduction Act does not apply because the rule does not contain any information collection requirements that require the approval of the Office of Management and Budget under 44 U.S.C. 3501 et seq.

Author

The principal author of this rule is Diane O. Williams, Regulatory Affairs Group (WO 630).

List of Subjects in 43 CFR Part 1820

Administrative practice and procedure; Archives and records; Public lands.

Dated: February 23, 2006.
Julie A. Jacobson,
Acting Assistant Secretary, Land and Minerals Management.

For the reasons discussed in the preamble, the Bureau of Land Management amends 43 CFR part 1820 as follows:

PART 1820—APPLICATION PROCEDURES

1. The authority citation for part 1820 continues to read as follows:

Authority: 5 U.S.C. 552, 43 U.S.C. 2, 1201, 1733, and 1740.

Subpart 1821—General Information

2. Amend § 1821.10 by amending paragraph (a) by revising the address of the Bureau of Land Management, Montana State Office, to read as following:

§ 1821.10 Where are BLM offices located?

(a) * * *

State Offices and Areas of Jurisdiction

* * * * *

Montana State Office, 5001 Southgate Drive, Billings, Montana 59101-4669—Montana, North Dakota and South Dakota.

* * * * *

[FR Doc. 06-1991 Filed 3-2-06; 8:45 am]

BILLING CODE 4310-85-P